DEPARTMENT OF THE INTERIOR

Fish and Wildlife Service

50 CFR Part 17

RIN 1018-AH55

Endangered and Threatened Wildlife and Plants; Proposed Reclassification From Endangered to Threatened Status for the Mariana Fruit Bat from Guam, and Proposed Threatened Status for the Mariana Fruit Bat from the Commonwealth of the Northern Mariana Islands

AGENCY: Fish and Wildlife Service, Interior.

ACTION: Proposed rule; reopening of comment period.

SUMMARY: We, the U.S. Fish and Wildlife Service (Service), pursuant to the Endangered Species Act of 1973, as amended (Act), provide notice of the reopening of the comment period on the proposed threatened status for the Mariana fruit bat (Pteropus mariannus mariannus) throughout its range, to allow peer reviewers and all interested parties to submit comments on the proposal. Comments already submitted on the March 26, 1998, proposed rule need not be resubmitted as they will be fully considered in the final determination.

DATES: Comments from all interested parties must be received by June 28, 2004.

ADDRESSES: Comments and materials concerning the proposal should be sent to the Assistant Field Supervisor, Pacific Islands Fish and Wildlife Office, U.S. Fish and Wildlife Service, 300 Ala Moana Boulevard, Room 3-122, P.O. Box 50088, Honolulu, HI 96850. For further instructions on commenting, refer to the Public Comments Solicited section of this notice.

FOR FURTHER INFORMATION CONTACT: Gina Shultz, Assistant Field Supervisor, at the above address (telephone 808/792-9400; facsimile 808/792-9580).

SUPPLEMENTARY INFORMATION:

Background

On March 26, 1998, we published a proposed rule to reclassify the Mariana fruit bat from endangered to threatened on Guam and list the Mariana fruit bat as threatened in the Commonwealth of the Northern Mariana Islands (CNMI) (63 FR 14641).

This subspecies of the Mariana fruit bat is found throughout the Mariana Archipelago, which includes both the United States Territory of Guam and the CNMI. In the CNMI, the Mariana fruit bat occurs primarily on private and Commonwealth lands, including inhabited and uninhabited islands. On Guam, it is known to roost primarily on Federal lands and to forage widely throughout the island. Currently, fewer than 100 individual Mariana fruit bats remain on Guam and several thousand individuals are distributed among the islands of the CNMI. The Mariana fruit bat and its habitats have been impacted or are now threatened by one or more of the following: illegal hunting, predation by introduced predators such as brown treesnakes (Boiga irregularis), rats, and feral cats; habitat loss to agriculture and development; habitat degradation or destruction by feral ungulates; disturbance from human activities; natural disasters or random environmental events such as hurricanes; fire; vandalism; and inconsistent enforcement of territorial and Federal laws and international conventions to protect this species. The best available scientific and commercial information indicates that the Mariana fruit bats in the CNMI and Guam represent one population, but also recognizes that the survival of these bats on Guam continues to be threatened by a variety of factors. However, when viewed in the context of representing a portion of the entire Mariana fruit bat population in the Mariana Islands, rather than as a distinct population as previously thought, reclassification from endangered to threatened is appropriate and biologically justified. Therefore, proposing to list the entire population of Pteropus mariannus mariannus as threatened throughout its range, including bats in both the CNMI and Guam, retains an appropriate level of protection for this bat on Guam while increasing the overall protection to the Mariana fruit bat throughout the Mariana Islands.

In our March 26, 1998, proposed rule and associated notifications, we requested that all interested parties submit comments, data, or other information that might contribute to the development of a final rule. A 60-day comment period closed on May 26, 1998. On May 29, 1998, we reopened the public comment period until July 10, 1998. A legal notice containing this information also was published in the Marianas Variety on June 8, 1998. We held public hearings on June 24, 1998, at the Pacific Garden Hotel on Saipan, and on June 25, 1998, at the Rota Resort on Rota. Pursuant to a settlement agreement approved by the United States District Court for the District of Hawaii on August 21, 2002, the Service must make a final decision on this proposal by December 31, 2004 (Center for Biological Diversity v. Norton, Civil No. 99-00603 (D. Haw.)).

Public Comments Solicited

We are reopening the comment period until the date specified in DATES section above. The reopening of the comment period gives additional time for all interested parties to consider the proposed rule's information and submit comments on the proposal. Comments from the public regarding the proposed rule are sought, especially concerning:

(1) Biological, commercial trade, or other relevant data concerning any threat (or lack thereof) to the Mariana fruit bat;

(2) The location of any additional populations of the Mariana fruit bat;

(3) Additional information on the range, distribution, and population size of this species; and

(4) Current or planned activities in the areas inhabited by the Mariana fruit bat and the possible impacts of these activities on this species.

You may hand deliver, send by mail, or transmit by facsimile written comments and information to the Assistant Field Supervisor (see ADDRESSES section above), facsimile 808/792-9580.

Comments and materials received, as well as supporting documentation used in preparation of the March 26, 1998, proposal to reclassify the Mariana fruit bat from endangered to threatened on Guam and to list this species as threatened in the CNMI, will be available for inspection, by appointment, during normal business hours at our Pacific Islands Fish and Wildlife Office at the Honolulu address given above.

Author

The primary author of this notice is Holly Freifeld (see ADDRESSES section above).

Authority

The authority for this action is the Endangered Species Act of 1973 (16 U.S.C. 1531 et seq.).

Dated: May 19, 2004.
Marshall Jones,
Acting Director, Fish and Wildlife Service.

[FR Doc. 04-12043 Filed 5-26-04; 8:45 am]

BILLING CODE 4310-55-P